DEPARTMENT OF THE TREASURY

Internal Revenue Service

Low Income Taxpayer Clinic Grant Program; Availability of 2008 Supplemental Grant Application Period

AGENCY: Internal Revenue Service (IRS), Treasury.

ACTION: Notice.

SUMMARY: This document contains a Notice that the IRS has made available a supplemental period within which organizations in select geographic areas may apply for a Low Income Taxpayer Clinic (LITC) matching grant for the remainder of the 2008 grant cycle (the 2008 grant cycle runs January 1, 2008, through December 31, 2008). The supplemental application period shall run from March 24, 2008, to April 24, 2008.

Despite the IRS's efforts to foster parity in availability and accessibility in the selection of organizations receiving LITC matching grants and the continued increase in clinic services nationwide, there remain communities that are underrepresented by clinics. For the supplemental application period, the IRS will focus on those geographic areas where there is limited or no clinic representation.

The IRS will award up to $300,000 in additional funding to qualifying organizations in the following underserved or underrepresented states or areas within a state:

State | Areas
California | Los Angeles County.
Colorado | Statewide.
Idaho | Boise.
Minnesota | Minneapolis.
Missouri | St Louis.
Mississippi | Statewide.
Nevada | Reno, Las Vegas.
New Mexico | Statewide.
Oregon | Central.
Pennsylvania | Northeast.
Texas | Brownsville, Laredo.

In order to be considered for a supplemental 2008 Low Income Taxpayer Clinic matching grant, a qualifying organization must be in a position to provide qualified services to taxpayers in these geographic areas. Qualifying organizations that provide representation for free or for a nominal fee to low income taxpayers involved in tax controversies with the IRS or that provide education on taxpayer rights and responsibilities to taxpayers for whom English is a second language can apply for a matching grant for the remainder of the 2008 grant cycle.

Examples of qualifying organizations include: (1) Clinical programs at accredited law, business or accounting schools, whose students may represent low income taxpayers in tax controversies with the IRS, and (2) organizations exempt from tax under I.R.C. 501(a) which represent low income taxpayers in tax controversies with the IRS or refer those taxpayers to qualified representatives.

DATES: Grant applications for the remainder of the 2008 grant cycle must be electronically filed or postmarked by April 24, 2008. Grant decisions will be made by June 1, 2008, and funds awarded can only be used for the remainder of the grant cycle.

ADDRESSES: Send completed grant applications to: Internal Revenue Service, Taxpayer Advocate Service, LITC Grant Program Administration Office, TA:LITC, 1111 Constitution Avenue, NW., Room 1034, Washington, DC 20224. Copies of the 2008 Grant Application Package and Guidelines, IRS Publication 3319 (Rev. 5-2007), can be downloaded from the IRS Internet site at http://www.irs.gov/advocate or ordered by the IRS Distribution Center by calling 1-800-829-3676. Applicants can also file electronically at http://www.grants.gov. For applicants applying through the Federal Grants Web site, the Funding Number is TREAS-GRANTS-05208-002.

FOR FURTHER INFORMATION CONTACT: The LITC Program Office at (202) 622-4711 (not a toll-free number) or by e-mail at LITCProgramOffice@irs.gov.

SUPPLEMENTARY INFORMATION:

Background

Section 7526 of the Internal Revenue Code authorizes the IRS, subject to the availability of appropriated funds, to award organizations matching grants of up to $100,000 per year for the development, expansion, or continuation of qualified low income taxpayer clinics. Section 7526 authorizes the IRS to provide grants to qualified organizations that represent low income taxpayers in controversies with the IRS or inform individuals for whom English is a second language of their taxpayer rights and responsibilities. The IRS may award grants to qualifying organizations to fund one-year, two-year or three-year project periods. Grant funds may be awarded for start-up expenditures incurred by new clinics during the grant cycle.

The 2008 Grant Application Package and Guidelines, Publication 3319 (Rev. 5-2007), outlines requirements for the operation of a qualifying LITC program and provides instructions on how to apply for a grant.

The costs of preparing and submitting an application are the responsibility of each applicant. Each application will be given due consideration and the LITC Program Office will mail notification letters to each applicant.

Selection Consideration

Applications that pass the eligibility screening process will be numerically ranked based on the information contained in their proposed program plan. Please note that the IRS Volunteer Income Tax Assistance (VITA) and Tax Counseling for the Elderly (TCE) Programs are independently funded and separate from the LITC Program. Organizations currently participating in the VITA or TCE Programs may be eligible to apply for a LITC grant if they meet the criteria and qualifications outlined in the 2008 Grant Application Package and Guidelines, Publication 3319 (Rev. 5-2007). Organizations that seek to operate VITA and LITC Programs, or TCE and LITC Programs, must maintain separate and distinct programs even if co-located to ensure proper cost allocation for LITC grant funds and adherence to the rules and regulations of the VITA, TCE and LITC Programs, as appropriate.

Comments

Interested parties are encouraged to provide comments on the IRS's administration of the grant program on an ongoing basis. Comments may be sent to Internal Revenue Service, Taxpayer Advocate Service, Attn: Shawn Collins, LITC Program Office, TA:LITC, 1111 Constitution Avenue, NW., Room 1034, Washington, DC 20224.

Nina E. Olson,
National Taxpayer Advocate, Internal Revenue Service.

[FR Doc. E8-5944 Filed 3-24-08; 8:45 am]

BILLING CODE 4830-01-P